DEPARTMENT OF AGRICULTURE

Forest Service

Lake Tahoe Basin Federal Advisory Committee (LTBFAC)

AGENCY: Forest Service, USDA.

ACTION: Notice of meeting.

SUMMARY: The Lake Tahoe Basin Federal Advisory Committee will meet in South Lake Tahoe, California. This Committee, established by the Secretary of Agriculture on December 15, 1998 (64 FR 2876), is chartered to provide advice to the Secretary on implementing the terms of the Federal Interagency Partnership on the Lake Tahoe Region and other matters raised by the Secretary. The purpose of the meeting is to present updated information on Aquatic Invasive Species, fuels treatments, and biomass opportunities in the Lake Tahoe Basin. The meeting is open to the public.

DATES: The meeting will be held January 10, 2013 beginning at 9:00 a.m. and ending at 12:00 p.m.

ADDRESSES: The meeting will be held at the Lake Tahoe Basin Management Unit, Forest Service, 35 College Drive, South Lake Tahoe, CA 96150. The public may access the meeting via teleconference by calling toll-free 1-888-858-2144, access code 4849484. Written comments may be submitted as described under Supplementary Information. All comments, including names and addresses when provided, are placed in the record and are available for public inspection and copying. The public may inspect comments received at 35 College Drive, South Lake Tahoe, CA 96150. Please call ahead to 530-543-2773 to facilitate entry into the building to view comments.

FOR FURTHER INFORMATION CONTACT: Arla Hains, Lake Tahoe Basin Management Unit, Forest Service, 35 College Drive, South Lake Tahoe, CA 96150, (530) 543-2773, (530) 543-0956 (TTY), ashains@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: The LTBFAC will receive a recap on the history and good work done by the 2012-2013 committee, follow up on the Aquatic Invasive Species letter, and further develop a letter to the Secretary of Agriculture discussing the capacity of collaboration and decision making in the Lake Tahoe Basin. The full agenda may be previewed at http://www.fs.usda.gov/goto/ltbmu/LTFAC. Anyone who would like to bring related matters to the attention of the committee may file written statements with the committee staff before the meeting. The agenda will include time for people to make oral statements of three minutes or less. Individuals wishing to make an oral statement should request in writing by January 3, 2013 to be scheduled on the agenda. Written comments must be sent to 35 College Drive, South Lake Tahoe, CA 96150, or by email to ashains@fs.fed.us, or via facsimile to (530) 543-2937 by January 3, 2013. A summary of the meeting will be posted at http://www.fs.usda.gov/goto/ltbmu/LTFAC where the minutes will be posted within 21 days of the meeting.

Meeting Accommodations: If you require sign language interpreting, assistive listening devices or other reasonable accommodation please request this in advance of the meeting by contacting the person listed in the section titled For Further Information Contact. All reasonable accommodation requests are managed on a case by case basis.

Dated: December 4, 2012.
Nancy J. Gibson,
Forest Supervisor.

[FR Doc. 2012-29718 Filed 12-7-12; 8:45 am]

BILLING CODE 3410-11-P